FEDERAL TRADE COMMISSION

Privacy Act of 1974; System of Records

AGENCY: Federal Trade Commission.

ACTION: Notice of modified systems of records.

SUMMARY: The Federal Trade Commission (FTC) is making technical revisions to an appendix that applies to all agency systems of records. The FTC is updating the appendix that sets out locations of agency offices and buildings. Specifically, the FTC is updating the street addresses for the Midwest regional office in Chicago, the Southeast regional office in Atlanta, and the Western regional offices in Los Angeles and San Francisco. This action is intended to make these system notices clearer, more accurate, and up-to-date.

DATES: This notice shall become final and effective on September 21, 2022.

FOR FURTHER INFORMATION CONTACT: G. Richard Gold, Attorney, Office of the General Counsel, FTC, 600 Pennsylvania Avenue NW, Washington, DC 20580, (202) 326-2424.

SUPPLEMENTARY INFORMATION: To inform the public, the FTC publishes in the Federal Register and posts on its website a “system of records notice” (SORN) for each system of records that the FTC currently maintains within the meaning of the Privacy Act of 1974, as amended, 5 U.S.C. 552a (“Privacy Act” or “Act”). See https://www.ftc.gov/about-ftc/foia/foia-reading-rooms/privacy-act-systems. The Privacy Act protects records about individuals in systems of records collected and maintained by Federal agencies. (A system is not a “system of records” under the Act unless the agency maintains and retrieves records in the system by the relevant individual's name or other personally assigned identifier.) Each Federal agency, including the FTC, must publish a SORN that describes the records maintained in each of its Privacy Act systems, including the categories of individuals that the records in the system are about, where and how the agency maintains these records, and how individuals can find out whether an agency system contains any records about them or request access to their records, if any. The FTC, for example, maintains 40 systems of records under the Act. Some of these systems contain records about the FTC's own employees, such as personnel and payroll files. Other FTC systems contain records about members of the public, such as public comments, consumer complaints, or phone numbers submitted to the FTC's Do Not Call Registry.

The FTC's SORNs discussed in this notice apply only to the FTC's own Privacy Act record systems. They do not cover Privacy Act records that other Federal agencies may collect and maintain in their own systems. Likewise, the FTC's SORNs and the Privacy Act of 1974 do not cover personal records that private businesses or other non-FTC entities may collect, which may be covered by other privacy laws.

Based on a periodic review of its SORNs, the FTC is updating and republishing Appendix III. This Appendix includes the addresses of all FTC facilities, including its satellite building in Washington, DC, and regional offices. It also explains that the FTC may maintain records in other leased facilities or, in certain cases, may have contractors operate or maintain Privacy Act record systems off-site. The FTC is updating the street addresses for the Midwest regional office in Chicago, the Southeast regional office in Atlanta, and the Western regional offices in Los Angeles and San Francisco. The entire appendix as revised is set out below.

The FTC is not substantively adding or amending any routine uses of its Privacy Act system records. Accordingly, the FTC is not required to provide prior public comment or notice to OMB or Congress for these technical amendments, which are final upon publication. See U.S.C. 552a(e)(11) and 552a(r); OMB Circular A-108, supra.

FTC Systems of Records Notices

Accordingly, the FTC revises and updates its Privacy Act systems of records below as follows:

Appendix III

Locations of FTC Buildings and Regional Offices

In addition to the FTC's headquarters building at 600 Pennsylvania Avenue NW, Washington, DC 20580, the FTC has a satellite building at 400 7th Street SW, Washington, DC 20024, and also operates the following Regional Offices where Privacy Act records may in some cases be maintained or accessed:

East Central Region, Eaton Center, Suite 200, 1111 Superior Avenue, Cleveland, OH 44114-2507

Midwest Region, 230 South Dearborn Street, Suite 3030, Chicago, IL 60604

Northeast Region, Alexander Hamilton U.S. Custom House, One Bowling Green, Suite 318, New York, NY 10004

Northwest Region, 915 Second Avenue, Suite 2896, Seattle, WA 98174

Southeast Region, 233 Peachtree Street NE, Harris Tower, Suite 1000, Atlanta, GA 30303

Southwest Region, 1999 Bryan Street, Suite 2150, Dallas, TX 75201

Western Region-Los Angeles, 10990 Wilshire Boulevard, Suite 400, Los Angeles, CA 90024

Western Region-San Francisco, 90 7th Street, Suite 14-300, San Francisco, CA 94103

In addition, FTC records subject to the Privacy Act may sometimes be maintained at other facilities leased by the FTC or operated by FTC contractors, including by other Federal agencies, or by the National Archives and Records Administration on the FTC's behalf.

Josephine Liu,
Assistant General Counsel for Legal Counsel.

[FR Doc. 2022-20384 Filed 9-20-22; 8:45 am]

BILLING CODE 6750-01-P